DEPARTMENT OF COMMERCE

National Oceanic and Atmospheric Administration

RIN 0648-XC274

Endangered and Threatened Species; Take of Anadromous Fish

AGENCY: National Marine Fisheries Service (NMFS), National Oceanic and Atmospheric Administration (NOAA), Commerce.

ACTION: Receipt of application for scientific research and enhancement.

SUMMARY: Notice is hereby given that NMFS has received one scientific research and enhancement permit application request relating to anadromous species listed under the Endangered Species Act (ESA). The proposed research activities are intended to increase knowledge of the species and to help guide management and conservation efforts. The application and related documents may be viewed online at: https://apps.nmfs.noaa.gov/preview/preview_open_for_comment.cfm. These documents are also available upon written request or by appointment by contacting NMFS by phone (916) 930-3607 or fax (916) 930-3629.

DATES: Written comments on the permit applications must be received at the appropriate address or fax number (see ADDRESSES) no later than 5 p.m. Pacific standard time on November 15, 2012.

ADDRESSES: Written comments on the permit application should be submitted to the Protected Resources Division, NMFS, 650 Capitol Mall, Room 5-100, Sacramento, CA 95814. Comments may also be submitted via fax to (916) 930-3629 or by email to FRNpermits.SR@noaa.gov.

FOR FURTHER INFORMATION CONTACT: Amanda Cranford, Sacramento, CA (ph.: 916-930-3706, email.: Amanda.Cranford@noaa.gov).

SUPPLEMENTARY INFORMATION:

Species Covered in This Notice

This notice is relevant to federally threatened California Central Valley (CCV) steelhead (Oncorhynchus mykiss), threatened Central Valley (CV) spring-run Chinook salmon (O. tshawytscha), and endangered Sacramento River (SR) winter-run Chinook salmon (O. tshawytscha).

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Application Received

Permit 17428

The U.S. Fish and Wildlife Service, Sacramento Fish and Wildlife Office is requesting a 5-year scientific research and enhancement permit to take adult spawned carcasses, smolt, and fry CCV steelhead, juvenile SR winter-run Chinook salmon, and juvenile CV spring-run Chinook salmon associated with research activities in the American River, downstream of the Watt Avenue Bridge, in Sacramento County, California. In the studies described below, researchers do not expect to kill any listed fish but a small number, up to 8.5 percent may die as an unintended result of the research activities.

Two to four rotary screw traps (RSTs) will be deployed on the American River downstream of the Watt Avenue Bridge from 2013 through 2017. Each year, RSTs will be operated 5 to 7 days each week between January 1 and June 30. As traps are operated, data will be collected on fish abundance, trap operational status, and environmental characteristics at the trap site. Trap operations will focus on the collection of the juvenile life stage of CCV steelhead listed pursuant to the Federal Endangered Species Act (ESA) and non-listed fall-run Chinook salmon. Other fish species will be collected on an incidental basis. If salmon that may be federally listed spring- or winter-run Chinook salmon are captured, fin clips will be taken so those samples can be used in genetic studies to determine which runs are actually present. The lengths of a representative sample of up to 100 individuals of each fish species will be measured each day. Weights from 25 salmon will be quantified each day. Captured fish will be released alive immediately downstream of the RSTs.

The proposed monitoring project does not include activities designed to intentionally result in the death of listed taxa. Ten measures designed to reduce adverse effects relating to the monitoring project will be undertaken, e.g., servicing traps each day so none of the captured fish experience a hold time in excess of 24 hours. If juvenile salmonids are found dead or accidentally killed during trapping activities, they will be salvaged for future studies. Data summaries and analyses will be presented in annual reports prepared each year trapping occurs. After five years of data collection, the principal investigators will develop a report evaluating fish responses to habitat restoration activities in the watershed, and whether future management activities should be modified to enhance the abundance, production, condition, and survival of juvenile salmon and steelhead.

Dated: October 11, 2012.
Larissa Plants,
Acting Chief, Endangered Species Division, Office of Protected Resources, National Marine Fisheries Service.

[FR Doc. 2012-25481 Filed 10-15-12; 8:45 am]

BILLING CODE 3510-22-P